DEPARTMENT OF DEFENSE

Department of the Army, Corps of Engineers

Availability of Partially Exclusive, Exclusive or Non Exclusive License

Correction

In notice document E6-7331 beginning on page 28019 in the issue of Monday, May 15, 2006, make the following correction:

On page 28019, in the second column, under SUPPLEMENTARY INFORMATION, in the third paragraph, “Date: April 24, 2004.” should read “Date: April 24, 2003.”.

[FR Doc. Z6-7331 Filed 5-18-06; 8:45 am]

BILLING CODE 1505-01-D

DEPARTMENT OF ENERGY

10 CFR Part 603

RIN 1991-AB72

Assistance Regulations

Correction

In rule document 06-4119 beginning on page 27158 in the issue of Tuesday, May 9, 2006, make the following correction:

§603.200 [Corrected]

On page 27163, in the third column, in §603.200 the section heading should read “§603.200 Contracting officer responsibilities.”.

[FR Doc. C6-4119 Filed 5-18-06; 8:45 am]

BILLING CODE 1505-01-D

DEPARTMENT OF LABOR

Employee Benefits Security Administration

29 CFR Part 2550

RIN 1210-AA97

Termination of Abandoned Individual Account Plans

Correction

In rule document 06-3814 beginning on page 20820 in the issue of Friday, April 21, 2006, make the following correction:

§ 2550.404a-3 [Corrected]

On page 20850, in the third column, in §2550.404a-3 (d)(1), in the second line, “made'” should read “made- ”.

[FR Doc. C6-3814 Filed 5-18-06; 8:45 am]

BILLING CODE 1505-01-D

OFFICE OF MANAGEMENT AND BUDGET

North American Industry Classification System—Revision for 2007

Correction

In notice document E6-7414 beginning on page 28531 in the issue of Tuesday, May 16, 2006, make the following corrections:

1. On page 28531, on the separate part cover page for Part V, the publication date “Tuesday, March 16, 2006” should read “Tuesday, May 16, 2006”.

2. On pages 28532 and 28533, in the page heading, “Federal Register/Vol. 71, No. 94/Tuesday, March 16, 2006/Notices” should read “Federal Register/Vol. 71, No. 94/Tuesday, May 16, 2006/Notices”.

[FR Doc. Z6-7414 Filed 5-18-06; 8:45 am]

BILLING CODE 1505-01-D

DEPARTMENT OF TRANSPORTATION

Federal Aviation Administration

14 CFR Part 39

[Docket No. FAA-2006-23648; Directorate Identifier 2006-CE-07-AD; Amendment 39-14514; AD 2006-06-06]

RIN 2120-AA64

Airworthiness Directives; The Cessna Aircraft Company Models 208 and 208B Airplanes

Correction

In rule document 06-2544 beginning on page 13533 in the issue of Thursday, March 16, 2006, make the following corrections:

§ 39.13 [Corrected]

1. On page 13535, in § 39.13(e), in the table, in the second column, in the fourth entry, in the third and fourth lines, “D1329-0S1-007” should read “D1329-S1-07”.

2. On the same page, in the same section, in the same table, in the same column, in the last entry, in the third line, “D1309-0S1-006” should read “D1309-S1-06”.

[FR Doc. C6-2544 Filed 5-18-06; 8:45 am]

BILLING CODE 1505-01-D